DEPARTMENT OF HOMELAND SECURITY

Coast Guard

[Docket No. USCG-2026-0041]

Streamlined (Vessel) Inspection Program (NVIC 02-99)—Request for Information

AGENCY: Coast Guard, DHS.

ACTION: Request for information.

SUMMARY: The Coast Guard seeks input from the public on improving its Streamlined Inspection Program (SIP), which is explained in Navigation and Vessel Inspection Circular (NVIC) 02-99. We seek information, ideas, and recommendations to ensure SIP implementation aligns with national security, economic prosperity, and workforce development objectives set forth in the Presidential Executive Order on Restoring America's Maritime Dominance. Finally, public input will aid in developing and improving the SIP as a tool for strengthening the domestic maritime industrial base, enhancing regulatory efficiency, and supporting the competitiveness of U.S.-flagged and U.S. built vessels.

DATES: Comments must be received by the Coast Guard on or before March 20, 2026.

ADDRESSES: You may submit comments identified by docket number USCG-2026-0041 at https://www.regulations.gov. See the “Public Participation and Request for Comments” portion of the SUPPLEMENTARY INFORMATION section for further instructions on submitting comments.

FOR FURTHER INFORMATION CONTACT: For information about this document call or email LCDR Vanessa R. Taylor, 571-608-0737, Coast Guard Office of Commercial Vessel Compliance; email Vanessa.R.Taylor@uscg.mil.

SUPPLEMENTARY INFORMATION:

I. Public Participation and Comments

We encourage you to submit comments or related material on the Streamlined Inspection Program (SIP) and NVIC (NAVIGATION AND VESSEL INSPECTION CIRCULAR) 02-99. The Coast Guard views public participation as essential to understanding how we might improve the SIP in ways that support the revitalization of the U.S. maritime industrial base, and in ways that better align the SIP with national security and economic policy goals through reductions in regulatory burdens to enhance the competitiveness of U.S.-flagged vessels. If you submit comments, please include the docket number for this notice (USCG-2026-0041), indicate the specific section or question within this document to which each comment applies, and provide a reason for each suggestion or recommendation.

Submitting comments. We encourage you to submit comments at http://www.regulations.gov. To do so, go to https://www.regulations.gov, type USCG-2026-0041 in the search box and click “Search.” Next, look for this document in the Search Results column, and click on it. Then click on the Comment option. If your material cannot be submitted using http://www.regulations.gov, contact the person in the FOR FURTHER INFORMATION CONTACT section of this document for alternate instructions.

Viewing material in docket. To view documents mentioned in this notice as being available in the docket, find the docket as described in the previous paragraph, and then select “Supporting & Related Material” in the Document Type column. Public comments will be placed in our online docket and can be viewed by following instructions on the https://www.regulations.gov Frequently Asked Questions web page.

Personal information. We accept anonymous comments. Comments we post to https://www.regulations.gov will include any personal information you have provided. For more about privacy and submissions in response to this document, see DHS's eRulemaking System of Records notice (85 FR 14226, March 11, 2020).

II. Purpose

The Coast Guard is issuing this request for information (RFI) in response to Executive Order 14269, 90 FR 15635 (April 15, 2025)—“Restoring America's Maritime Dominance.” The Coast Guard will use the public comments received in response to this RFI to evaluate and improve the Streamlined Inspection Program (SIP) NVIC 02-99 as a tool for strengthening the domestic maritime industrial base, reducing regulatory burden, and supporting the competitiveness of U.S.-flagged and built vessels.

III. Background—SIP Focus

By statute, Congress has made various categories of U.S. flagged vessels subject to inspection. These vessel categories are listed in 46 U.S.C. 3301. To carry out inspections, the Coast Guard has promulgated regulations in 46 CFR part 2. It has also issued regulations providing for “Vessel Inspection Alternatives” in 46 CFR part 8. Among these alternatives is the Streamlined Inspection Program (SIP), which is codified in subpart E of 46 CFR part 8 and explained in guidance titled NAVIGATION AND VESSEL INSPECTION CIRCULAR (NVIC) 2-99.

The SIP provides a voluntary alternative method for a company to comply with Coast Guard inspection requirements through company-developed inspection and maintenance programs. Instead of the traditional Coast Guard inspection by a marine inspector, the SIP allows a company (the owner of the vessel or any other organization or person, such as the manager or the bareboat charterer, who operates the vessel under the SIP) to conduct the majority of inspections required by law and to have the adequacy of these inspections verified by Coast Guard marine inspectors on a regular basis.

The SIP is intended to reduce regulatory burdens while raising the overall safety of a vessel by actively empowering the vessel's support personnel. The focus of this program is on the development, under Coast Guard supervision, of a process by which the inspection of the vessel is carried out by qualified company personnel with approved test procedures in a self-perpetuating, self-correcting format.

As the United States undertakes a comprehensive approach to rebuilding its maritime industrial base and workforce, the Coast Guard is evaluating the SIP's role in supporting these national objectives, through policy reform, workforce development, and incorporating existing management technologies and practices already employed by the maritime industry to fulfil regulatory requirements.

IV. Request for Information

The Coast Guard seeks comments and relevant information from the public and particularly from vessel owners, operators, companies, shipyards, members of the maritime workforce, workforce organizations, and other stakeholders that may be affected by, or have experience with the SIP, as described in NVIC 02-99.

Commenters should feel free to answer as many questions as they would like, but those comments which provide specific suggestions, include details, and explain the logic behind any finding or numerical estimates are likely to be most helpful.

The following information is requested; please provide as much detail as possible:

(1) What operational and regulatory challenges do companies face in enrolling and maintaining compliance with SIP?

(2) What are current industry practices for implementing SIP, especially the use of existing management technologies and practices already employed by the maritime industry to fulfil regulatory requirements, such as digital recordkeeping, or third-party support? How can updated SIP guidance be leveraged to promote innovation, efficiency, and competitiveness in U.S. flag vessel operations?

(3) What best practices has your company developed for leveraging technology to maintain a continual state of compliance and safety? How can these practices inform updates to SIP procedures or requirements?

(4) Are there elements of other inspection or quality management programs (e.g., the International Safety Management (ISM) Code, Towing Safety Management Systems (TSMS), other programs under the ACP, or Reliability Centered Maintenance) that could be integrated into SIP to enhance its effectiveness? What best practices can or should be adopted?

(5) How does your company use electronic recordkeeping, reliability sensor data, or automated reporting to document vessel inspections and maintenance? In what ways can these digital tools be integrated into the SIP to improve efficiency, transparency, and safety?

(6) What impediments exist to enrolling vessels in SIP, especially for small companies or operators? Are there administrative, financial, or technical barriers that could be addressed through policy updates or support programs?

(7) How can the SIP program be improved to promote the policy goals of E.O. 14269, including reducing regulatory burdens and supporting workforce development?

(8) Understanding that the SIP places the examination and maintenance responsibility on the Company, per the required Company Action Plan and Vessel Action Plan(s), what role can, or should, third parties serve in meeting the objectives of the SIP?

(9) How could the scope and frequency of Coast Guard inspections be changed to better achieve the objectives of the SIP and the regulatory requirements?

(10) For automated vessels required to have a Periodic Safety Test Procedure (PSTP) under 46 CFR 61.40, how does your company integrate these testing requirements with its Planned Maintenance System (PMS) and classification society surveys? When providing an answer, please address the following:

a. How PSTP tests are managed within your PMS (e.g., as scheduled work orders, linked job plans, or a dedicated module)?

b. How does your PMS document the step-by-step procedures for performing a test? How does your PMS verify and document that a test was performed correctly (e.g., checklists, recorded values, logs)?

c. What role does your Authorized Classification Society (ACS) currently play in witnessing or verifying these tests? What documentation does your ACS provide that serves as evidence of a successful test?

C.F. Heard IV,
Captain, U.S. Coast Guard, Chief, Office of Commercial Vessel Compliance.

[FR Doc. 2026-03226 Filed 2-18-26; 8:45 am]

BILLING CODE 9110-04-P